DEPARTMENT OF COMMERCE

Foreign-Trade Zones Board

[S-119-2015]

Approval of Subzone Status Swisscosmet Corporation New Port Richey, Florida

On August 12, 2015, the Executive Secretary of the Foreign-Trade Zones (FTZ) Board docketed an application submitted by the City of Tampa, grantee of FTZ 79, requesting subzone status subject to the existing activation limit of FTZ 79, on behalf of Swisscosmet Corporation in New Port Richey, Florida.

The application was processed in accordance with the FTZ Act and Regulations, including notice in the Federal Register inviting public comment (80 FR 49985-49986, 8/18/2015). The FTZ staff examiner reviewed the application and determined that it meets the criteria for approval.

Pursuant to the authority delegated to the FTZ Board's Executive Secretary (15 CFR Sec. 400.36(f)), the application to establish Subzone 79D is approved, subject to the FTZ Act and the Board's regulations, including Section 400.13, and further subject to FTZ 79's 2,000-acre activation limit.

Dated: October 28, 2015.
Andrew McGilvray,
Executive Secretary.

[FR Doc. 2015-28030 Filed 11-2-15; 8:45 am]

BILLING CODE 3510-DS-P